DEPARTMENT OF THE INTERIOR

Bureau of Land Management

[MT-090-1990EX-02]

Notice of Availability

AGENCY: Bureau of Land Management, Interior.

ACTION: Notice.

SUMMARY: The Bureau of Land Management (BLM) announces the availability of a Final Supplemental Environmental Impact Statement (EIS) for Reclamation of the Zortman and Landusky Mines in Phillips County, Montana. This is a supplement to the 1996 Final EIS on Reclamation Plan Modifications and Mine Life Extensions at the Zortman and Landusky Mines. The Final Supplemental EIS addresses 12 reclamation alternatives, six for the Zortman Mine and six for the Landusky Mine. The BLM and Montana Department of Environmental Quality (DEQ) are co-lead agencies for the preparation of the Supplemental EIS. The Environmental Protection Agency and the Fort Belknap Indian Community Council are participating agencies.

DATES: A record of decision will be prepared no earlier than 30 days after the Notice of Receipt for the Final Supplemental EIS is published in the Federal Register.

ADDRESSES: Copies of the Final Supplemental EIS are available from the Bureau of Land Management, Malta Field Office, HC 65 Box 5000, Malta, Montana, 59538.

FOR FURTHER INFORMATION CONTACT: Scott Haight, 406-538-1930.

SUPPLEMENTARY INFORMATION: This EIS is a final supplement to the March 1996 Final EIS Zortman and Landusky Mines Reclamation Plan Modifications and Mine Life Extensions. With the bankruptcy of the mines' operator, Zortman Mining, Inc., the BLM and DEQ are overseeing reclamation at the mines. The Final Supplemental EIS has been prepared to analyze additional reclamation alternatives developed by the agencies that may constitute a substantial change from those presented in the 1996 Final EIS. The Final Supplemental EIS presents 12 reclamation plans, six for reclamation of the Zortman Mine and six for reclamation of the Landusky Mine. The reclamation plans were developed based upon public comments and through consultation with the Fort Belknap government and the Environmental Protection Agency. The Final Supplemental EIS discloses the environmental consequences of each alternative. Alternative Z6 is identified in the Final Supplemental EIS as the DEQ and BLM preferred reclamation alternative for the Zortman Mine, and Alternative L4 is identified as the preferred reclamation alternative for the Landusky Mine. Implementation of the preferred reclamation alternatives would cost approximately $22.5 million more than is available under the reclamation bonds and would require additional funding. Alternatives Z3 and L3 have also been identified as “preferred,” in the event funding to implement Alternatives Z6 and L4 is not forthcoming. Also, an additional $11 million is needed to fund long-term water treatment regardless of which reclamation alternative is selected.

(Authority: Sec. 102, Pub. L. 91-190, 83 Stat. 853 (42 U.S.C. 4332))

Dated: January 4, 2002.
Bruce W. Reed,
Field Manager, Bureau of Land Management.

[FR Doc. 02-3690 Filed 2-14-02; 8:45 am]

BILLING CODE 4310-DN-P